ENVIRONMENTAL PROTECTION AGENCY

40 CFR Part 300

[FRL-7973-9]

National Oil and Hazardous Substances Pollution Contingency Plan; National Priorities List

AGENCY: Environmental Protection Agency.

ACTION: Notice of Deletion of the Nutmeg Valley Road Site from the National Priorities List.

SUMMARY: The Environmental Protection Agency (“EPA” or the “Agency”) New England (Region 1) announces the deletion of the Nutmeg Valley Road Site (“Site”) from the National Priorities List (“NPL”). The NPL constitutes appendix B of 40 part 300 which is the National Oil and Hazardous Substances Pollution Contingency Plan (“NCP”), which EPA promulgated pursuant to section 105 of the Comprehensive Environmental Response, Compensation and Liability Act (“CERCLA”) of 1980, as amended. EPA and the Connecticut Department of Environmental Protection (“CT DEP”) have determined that the Site poses no significant threat to public health or the environment and, therefore, no further remedial measures pursuant to CERCLA are appropriate.

EFFECTIVE DATE: September 23, 2005.

FOR FURTHER INFORMATION CONTACT: Karen Lumino, Remedial Project Manager, at 617-918-1348, or, lumino.karen@epa.gov.

SUPPLEMENTARY INFORMATION: The site to be deleted from the NPL is:

Nutmeg Valley Road Site, Wolcott, New Haven County, Connecticut.

A Notice of Intent to Delete for this Site was published in the Federal Register on August 5, 2005 (70 FR 45334). The closing date for comments on the Notice of Intent to Delete was September 6, 2005. No comments were received therefore, EPA has not prepared a Responsiveness Summary.

EPA identifies sites that appear to present a significant risk to public health, welfare, or the environment and it maintains the NPL as the list of those sites. Any site deleted from the NPL remains eligible for fund-financed remedial actions in the unlikely event that conditions at the site warrant such action. Section 300.425(e)(3) of the NCP states that fund-financed actions may be taken at sites deleted from the NPL. Deletion of a site from the NPL does not affect responsible party liability or impede agency efforts to recover costs associated with response efforts.

List of Subjects in 40 CFR Part 300

Environmental protection, Air pollution control, Chemicals, Hazardous substances, Hazardous waste, Intergovernmental relations, Penalties, Reporting and recordkeeping requirements, Superfund, Water pollution control, Water supply.

Dated: September 15, 2005.
Ira W. Leighton,
Acting Regional Administrator, U.S. EPA—New England.

For the reasons set out in the preamble, 40 CFR part 300 is amended as follows:

PART 300—[AMENDED]

1. The authority citation for Part 300 continues to read as follows:

Authority: 33 U.S.C. 1321(c)(2); 42 U.S.C. 9601-9657; E.O. 12777, 56 FR 54757, 3 CFR, 1991 Comp., p.351; E.O. 12580, 52 FR 2923; 3 CFR, 1987 Comp., p. 193.

Appendix B—[Amended]

2. Table 1 of Appendix B to Part 300 is amended by removing the entry for the “Nutmeg Valley Road Site in Wolcott, Connecticut.”

[FR Doc. 05-19054 Filed 9-22-05; 8:45 am]

BILLING CODE 6560-50-P